DEPARTMENT OF STATE

[Public Notice: 11011]

Biodiversity Beyond National Jurisdiction

ACTION: Notice of public meeting.

SUMMARY: The Department of State will hold an information session regarding upcoming United Nations negotiations concerning marine biodiversity in areas beyond national jurisdiction.

DATES: The public meeting will be held on February 25, 2020, 2:00-3:00 p.m.

ADDRESSES: The meeting will be held at the Harry S. Truman Main State Building, Room 3940, 2201 C Street NW, Washington, DC 20520.

FOR FURTHER INFORMATION CONTACT: If you would like to participate in this meeting, please send your name, organization/affiliation, email address, and phone number, as well as any requests for reasonable accommodation, to Elana Mendelson at Katz-MinkEH@state.gov or 202-647-1073.

SUPPLEMENTARY INFORMATION: The United Nations will convene the fourth, and possibly final, session of an Intergovernmental Conference (IGC) on the conservation and sustainable use of marine biological diversity of areas beyond national jurisdiction (BBNJ) on March 23-April 4, 2020, in New York City. The UN General Assembly established the IGC to consider the recommendations of a two-year Preparatory Committee and to elaborate the text of an international legally binding instrument under the United Nations Convention on the Law of Sea on BBNJ. The IGC met for its third session August 19-30, 2019. Additional information on the BBNJ process is available at www.un.org/bbnj.

We would like to invite interested stakeholders to a public meeting to share views about the BBNJ IGC, in particular to provide information to assist the U.S. Government in developing its positions. Stakeholders are invited to provide comments on the IGC President's Draft text, available at https://www.un.org/bbnj/content/fourth-substantive-session. We will provide a brief overview of the discussions at and outcomes of the third session of the IGC and listen to the viewpoints of U.S. stakeholders. The information obtained from this session will help the U.S. delegation prepare for participation in the upcoming IGC session.

Reasonable Accommodation: This meeting is physically accessible to people with disabilities. Requests for sign language interpretation or other reasonable accommodation should be directed to (see FOR FURTHER INFORMATION) at least five days prior to the meeting date. Requests received after that date will be considered, but might not be possible to fulfill.

Personal data for entry into the Harry S. Truman building is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. For further information, please see the Security Records System of Records Notice (State-36) (PDF file) at https://www.state.gov/wp-content/uploads/2019/05/Security-Records-STATE-36.pdf.

Michael J. Layne,
Acting Director, Office of Ocean and Polar Affairs, Bureau of Oceans and International Environmental and Scientific Affairs, Department of State.

[FR Doc. 2020-01931 Filed 1-31-20; 8:45 am]

BILLING CODE 4710-09-P